DEPARTMENT OF DEFENSE

Office of the Secretary

Department of Defense Wage Committee; Notice of Federal Advisory Committee Meetings

AGENCY: Under Secretary of Defense for Personnel and Readiness (USD(P&R)), Department of Defense (DoD).

ACTION: Notice of Federal advisory committee meetings.

SUMMARY: The DoD is publishing this notice to announce that the following Federal Advisory Committee meetings of the Department of Defense Wage Committee (DoDWC) will take place.

DATES: Tuesday, June 25, 2024, from 10:00 a.m. to 11:00 a.m. and will be closed to the public. Tuesday, July 9, 2024, from 10:00 a.m. to 10:30 a.m. and will be closed to the public. Tuesday, July 23, 2024, from 10:00 a.m. to 11:30 a.m. and will be closed to the public. Tuesday, August 6, 2024, from 10:00 a.m. to 11:00 a.m. and will be closed to the public. Tuesday, August 20, 2024, from 10:00 a.m. to 12:00 p.m. and will be closed to the public. Tuesday, September 3, 2024, from 10:00 a.m. to 10:30 a.m. and will be closed to the public. Tuesday, September 17, 2024, from 10:00 a.m. to 11:30 a.m. and will be closed to the public.

ADDRESSES: The closed meetings will be held by Microsoft Teams.

FOR FURTHER INFORMATION CONTACT: Mr. Karl Fendt, Designated Federal Officer (DFO) (571) 372-1618 (voice), karl.h.fendt.civ@mail.mil (email), 4800 Mark Center Drive, Suite 05G21, Alexandria, Virginia 22350 (mailing address). Any agenda updates can be found at the DoDWC's official website: https://wageandsalary.dcpas.osd.mil/BWN/DoDWC/.

SUPPLEMENTARY INFORMATION: These meetings are being held under the provisions of chapter 10 of title 5, United States Code (U.S.C.) (commonly known as the “Federal Advisory Committee Act” or “FACA”), 5 U.S.C. 552b(c) (commonly known as the “Government in the Sunshine Act”), and 41 Code of Fedeal Regulations (CFR) 102-3.140 and 102-3.150.

Due to circumstances beyond the control of the DFO and the DoD, the DoDWC was unable to provide public notification required by 41 CFR 102-3.150(a) concerning its June 25, 2024 meeting. Accordingly, the Advisory Committee Management Officer for the DoD, pursuant to 41 CFR 102-3.150(b), waives the 15-calendar day notification requirement.

Purpose of the Meeting: The purpose of these meetings is to provide independent advice and recommendations on matters relating to the conduct of wage surveys and the establishment of wage schedules for all appropriated fund and non-appropriated fund areas of blue-collar employees within the DoD.

Agenda

June 25, 2024: Opening Remarks by Chair, Mr. Eric Clayton, and DFO, Mr. Karl Fendt. Reviewing survey results and/or survey specifications for the following Nonappropriated Fund areas:

1. Any items needing further clarification or action from the previous meeting.

2. Wage Schedule (Full Scale) for the Cumberland, Pennsylvania wage area (AC-092).

3. Wage Schedule (Full Scale) for the York, Pennsylvania wage area (AC-093).

4. Wage Schedule (Full Scale) for the Honolulu, Hawaii wage area (AC-106).

5. Wage Schedule (Full Scale) for the Norfolk-Portsmouth-Virginia Beach, Virginia wage area (AC-111).

6. Wage Schedule (Full Scale) for the Hampton-Newport News, Virginia wage area (AC-112).

7. Wage Schedule (Full Scale) for the Harford, Maryland wage area (AC-148).

8. Wage Schedule (Wage Change) for the McLennan, Texas wage area (AC-022).

9. Wage Schedule (Wage Change) for the Jefferson, New York wage area (AC-101).

10. Wage Schedule (Wage Change) for the Orange, New York wage area (AC-103).

11. Wage Schedule (Wage Change) for the Macomb, Michigan wage area (AC-162).

12. Wage Schedule (Wage Change) for the Niagara, New York wage area (AC-163).

Reviewing survey results and/or survey specifications for the following appropriated fund areas:

13. Survey Specifications for the San Bernardino-Riverside-Ontario, California wage area (AC-016).

14. Survey Specifications for the Chicago, Illinois wage area (AC-047).

15. Survey Specifications for the Seattle-Everett-Tacoma, Washington wage area (AC-143).

16. Special Rates—Washington, District of Columbia TV Systems/Electrical Equipment

17. Any items needing further clarification from this agenda may be discussed during future scheduled meetings.

Closing Remarks by Chair, Mr. Eric Clayton.

July 9, 2024: Opening Remarks by Chair, Mr. Eric Clayton, and DFO, Mr. Karl Fendt.

Reviewing survey results and/or survey specifications for the following appropriated fund areas:

1. Any items needing further clarification or action from the previous meeting.

2. Wage Schedule (Full Scale) for the Shreveport, Louisiana wage area (AC-062).

3. Wage Schedule (Full Scale) for the Central North Carolina wage area (AC-099).

4. Wage Schedule (Full Scale) for the Columbia, South Carolina wage area (AC-120).

5. Wage Schedule (Full Scale) for the Norfolk-Portsmouth-Newport News-Hampton, Virginia (AC-140).

6. Wage Schedule (Wage Change) for the Atlanta, Georgia wage area (AC-037).

7. Survey Specifications for the Fort Wayne-Marion, Indiana wage area (AC-049).

8. Survey Specifications for the Dallas-Fort Worth, Texas wage area (AC-131).

9. Any items needing further clarification from this agenda may be discussed during future scheduled meetings.

Closing Remarks by Chair, Mr. Eric Clayton.

July 23, 2024: Opening Remarks by Chair, Mr. Eric Clayton, and DFO, Mr. Karl Fendt.

Reviewing survey results and/or survey specifications for the following non-appropriated fund areas:

1. Any items needing further clarification or action from the previous meeting.

2. Wage Schedule (Full Scale) for the Pennington, South Dakota wage area (AC-086).

3. Wage Schedule (Full Scale) for the Nueces, Texas wage area (AC-115).

4. Wage Schedule (Full Scale) for the Bexar, Texas wage area (AC-117).

5. Wage Schedule (Full Scale) for the Anchorage, Alaska wage area (AC-118).

6. Wage Schedule (Full Scale) for the Kitsap, Washington wage area (AC-142).

7. Wage Schedule (Full Scale) for the Dallas, Texas wage area (AC-152).

8. Wage Schedule (Full Scale) for the Tarrant, Texas wage area (AC-156).

9. Wage Schedule (Wage Change) for the Orleans, Louisiana wage area (AC-006).

10. Wage Schedule (Wage Change) for the Bell, Texas wage area (AC-028).

11. Wage Schedule (Wage Change) for the Curry, New Mexico wage area (AC-030).

12. Wage Schedule (Wage Change) for the Tom Green, Texas wage area (AC-032).

13. Wage Schedule (Wage Change) for the Cobb, Georgia wage area (AC-034).

14. Wage Schedule (Wage Change) for the Columbus, Georgia wage area (AC-067).

Reviewing survey results and/or survey specifications for the following appropriated fund areas:

15. Wage Schedule (Full Scale) for the Augusta, Maine wage area (AC-063).

16. Wage Schedule (Wage Change) for the Savannah, Georgia wage area (AC-042).

17. Wage Schedule (Wage Change) for the Western Texas wage area (AC-127).

18. Wage Schedule (Wage Change) for the Waco, Texas wage area (AC-137).

19. Survey Specifications for the St. Louis, Missouri wage area (AC-081).

20. Special Pay—Western Texas Special Rates

21. Any items needing further clarification from this agenda may be discussed during future scheduled meetings.

Closing Remarks by Chair, Mr. Eric Clayton.

August 6, 2024: Opening Remarks by Chair, Mr. Eric Clayton, and DFO, Mr. Karl Fendt.

Reviewing survey results and/or survey specifications for the following appropriated fund areas:

1. Any items needing further clarification or action from the previous meeting.

2. Wage Schedule (Full Scale) for the Hawaii wage area (AC-044).

3. Wage Schedule (Full Scale) for the Central and Western Massachusetts wage area (AC-069).

4. Wage Schedule (Full Scale) for the Southwestern Wisconsin wage area (AC-149).

5. Wage Schedule (Wage Change) for the Augusta, Georgia wage area (AC-038).

6. Wage Schedule (Wage Change) for the Macon, Georgia wage area (AC-041).

7. Wage Schedule (Wage Change) for the Southeastern Washington-Eastern Oregon wage area (AC-144).

8. Survey Specifications for the Bloomington-Bedford-Washington, Indiana wage area (AC-048).

9. Survey Specifications for the Indianapolis, Indiana wage area (AC-050).

10. Survey Specifications for the Kansas City, Kansas wage area (AC-080).

11. Survey Specifications for the Southern Missouri wage area (AC-082).

12. Survey Specifications for the Omaha, Nebraska wage area (AC-084).

13. Special Pay—Macon, Georgia Special Rates

14. Any items needing further clarification from this agenda may be discussed during future scheduled meetings.

Closing Remarks by Chair, Mr. Eric Clayton.

August 20, 2024: Opening Remarks by Chair, Mr. Eric Clayton, and DFO, Mr. Karl Fendt.

Reviewing survey results and/or survey specifications for the following non-appropriated fund areas:

1. Any items needing further clarification or action from the previous meeting.

2. Wage Schedule (Full Scale) for the Arapahoe-Denver, Colorado wage area (AC-084).

3. Wage Schedule (Full Scale) for the El Paso, Colorado wage area (AC-085).

4. Wage Schedule (Full Scale) for the Laramie, Wyoming wage area (AC-087).

5. Wage Schedule (Full Scale) for the New London, Connecticut wage area (AC-136).

6. Wage Schedule (Full Scale) for the Snohomish, Washington wage area (AC-141).

7. Wage Schedule (Full Scale) for the Pierce, Washington wage area (AC-143).

8. Wage Schedule (Full Scale) for the Newport, Rhode Island wage area (AC-167).

9. Wage Schedule (Wage Change) for the Hennepin, Minnesota wage area (AC-015).

10. Wage Schedule (Wage Change) for the Grand Forks, North Dakota wage area (AC-017).

11. Wage Schedule (Wage Change) for the Davis-Weber-Salt Lake, Utah wage area (AC-018).

12. Wage Schedule (Wage Change) for the Ada-Elmore, Idaho wage area (AC-038).

13. Wage Schedule (Wage Change) for the Cascade, Montana wage area (AC-040).

14. Wage Schedule (Wage Change) for the Spokane, Washington wage area (AC-043).

Reviewing survey results and/or survey specifications for the following Appropriated Fund areas:

15. Wage Schedule (Full Scale) for the Central and Northern Maine wage area (AC-064).

16. Wage Schedule (Full Scale) for the Asheville, North Carolina wage area (AC-098).

17. Wage Schedule (Full Scale) for the Southwestern Oregon wage area (AC-113).

18. Wage Schedule (Full Scale) for the Austin, Texas wage area (AC-129).

19. Wage Schedule (Full Scale) for the Corpus Christi, Texas wage area (AC-130).

20. Wage Schedule (Wage Change) for the Duluth, Minnesota wage area (AC-074).

21. Wage Schedule (Wage Change) for the San Antonio, Texas wage area (AC-135).

22. Wage Schedule (Wage Change) for the Milwaukee, Wisconsin wage area (AC-148).

23. Survey Specifications for the New Orleans, Louisiana wage area (AC-061).

24. Survey Specifications for the Richmond, Virginia wage area (AC-141).

25. Special Pay—Southwestern Oregon Special Rates

26. Any items needing further clarification from this agenda may be discussed during future scheduled meetings.

Closing Remarks by Chair, Mr. Eric Clayton.

September 3, 2024: Opening Remarks by Chair, Mr. Eric Clayton, and DFO, Mr. Karl Fendt.

Reviewing survey results and/or survey specifications for the following non-appropriated fund areas:

1. Any items needing further clarification or action from the previous meeting.

2. Survey Specifications for the Brevard, Florida wage area (AC-061).

3. Survey Specifications for the Hillsborough, Florida wage area (AC-119).

4. Survey Specifications for the Miami-Dade, Florida wage area (AC-158).

5. Survey Specifications for the Duval, Florida wage area (AC-159).

6. Survey Specifications for the Monroe, Florida wage area (AC-160).

Reviewing survey results and/or survey specifications for the following Appropriated Fund areas:

7. Wage Schedule (Wage Change) for the Boise, Idaho wage area (AC-045).

8. Any items needing further clarification from this agenda may be discussed during future scheduled meetings.

Closing Remarks by Chair, Mr. Eric Clayton.

September 17, 2024: Opening Remarks by Chair, Mr. Eric Clayton, and DFO, Mr. Karl Fendt.

Reviewing survey results and/or survey specifications for the following non-appropriated fund areas:

1. Any items needing further clarification or action from the previous meeting.

2. Wage Schedule (Full Scale) for the Frederick, Maryland wage area (AC-088).

3. Wage Schedule (Full Scale) for the Washington, District of Columbia wage area (AC-124).

4. Wage Schedule (Full Scale) for the Alexandria-Arlington-Fairfax, Virginia wage area (AC-125).

5. Wage Schedule (Full Scale) for the Prince William, Virginia wage area (AC-126).

6. Wage Schedule (Full Scale) for the Prince George's-Montgomery, Maryland wage area (AC-127).

7. Wage Schedule (Full Scale) for the Charles-St. Mary's, Maryland wage area (AC-128).

8. Wage Schedule (Full Scale) for the Anne Arundel, Maryland wage area (AC-147).

9. Wage Schedule (Wage Change) for the Burlington, New Jersey wage area (AC-071).

10. Wage Schedule (Wage Change) for the Kent, Delaware wage area (AC-076).

11. Wage Schedule (Wage Change) for the Richmond-Chesterfield, Virginia wage area (AC-082).

12. Wage Schedule (Wage Change) for the Morris, New Jersey wage area (AC-090).

Reviewing survey results and/or survey specifications for the following Appropriated Fund areas:

13. Wage Schedule (Full Scale) for the Alaska wage area (AC-007).

14. Wage Schedule (Full Scale) for the Montana wage area (AC-083).

15. Wage Schedule (Full Scale) for the Charleston, South Carolina wage area (AC-119).

16. Wage Schedule (Wage Change) for the Utah wage area (AC-139).

17. Wage Schedule (Wage Change) for the Spokane, Washington wage area (AC-145).

18. Wage Schedule (Wage Change) for the Puerto Rico wage area (AC-151).

19. Special Pay—Puerto Rico Special Rates

20. Any items needing further clarification from this agenda may be discussed during future scheduled meetings.

Closing Remarks by Chair, Mr. Eric Clayton.

Meeting Accessibility: Pursuant to 5 U.S.C. 552b(c)(4), the DoD has determined that the meetings shall be closed to the public. The USD(P&R), in consultation with the DoD Office of General Counsel, has determined in writing that each of these meetings is likely to disclose trade secrets and commercial or financial information obtained from a person and privileged or confidential.

Written Comments and Statements: Pursuant to 5 U.S.C. 1009(a)(3) and 41 CFR 102-3.140, interested persons may submit written statements to the DFO for the DoDWC at any time. Written statements should be submitted to the DFO at the email or mailing address listed in the FOR FURTHER INFORMATION CONTACT section. If statements pertain to a specific topic being discussed at a planned meeting, then these statements must be submitted no later than five (5) business days prior to the meeting in question. Written statements received after this date may not be provided to or considered by the DoDWC until its next meeting. The DFO will review all timely submitted written statements and provide copies to all the committee members before the meetings that are the subject of this notice.

Dated: June 20, 2024.
Aaron T. Siegel,
Alternate OSD Federal Register Liaison Officer, Department of Defense.

[FR Doc. 2024-13964 Filed 6-25-24; 8:45 am]

BILLING CODE 6001-FR-P